DEPARTMENT OF COMMERCE

Foreign-Trade Zones Board

[B-47-2016]

Foreign-Trade Zone (FTZ) 249—Pensacola, Florida; Notification of Proposed Production Activity GE Renewables North America, LLC, Subzone 249A, (Wind Turbine Nacelles, Hubs, and Drivetrains), Pensacola, Florida

GE Renewables North America, LLC (GE Renewables) submitted a notification of proposed production activity to the FTZ Board for its facility in Pensacola, Florida within Subzone 249A. The notification conforming to the requirements of the regulations of the FTZ Board (15 CFR 400.22) was received on July 22, 2016.

GE Renewables already has authority to produce wind turbines and related hubs and nacelles within Subzone 249A and also has a request pending to add foreign status materials/components to the scope of authority (Doc. B-41-2016). The current request would add a finished product and foreign status materials/components to the scope of authority. Pursuant to 15 CFR 400.14(b), additional FTZ authority would be limited to the specific foreign-status materials/components and specific finished products described in the submitted notification (as described below) and subsequently authorized by the FTZ Board.

Production under FTZ procedures could exempt GE Renewables from customs duty payments on the foreign-status materials/components used in export production. On its domestic sales, GE Renewables would be able to choose the duty rates during customs entry procedures that apply to: wind turbines and related hubs and nacelles; and, repower drivetrain assemblies (duty-free or 2.5%) for the foreign-status materials/components noted below and in the existing scope of authority. Customs duties also could possibly be deferred or reduced on foreign-status production equipment.

The materials/components sourced from abroad include the following repower drivetrain components: Brake calipers; brake hydraulic power units; gearboxes; main bearings; main shafts; and, pillow blocks (duty rate ranges from duty-free to 5.8%).

Public comment is invited from interested parties. Submissions shall be addressed to the Board's Executive Secretary at the address below. The closing period for their receipt is September 6, 2016.

A copy of the notification will be available for public inspection at the Office of the Executive Secretary, Foreign-Trade Zones Board, Room 21013, U.S. Department of Commerce, 1401 Constitution Avenue NW., Washington, DC 20230-0002, and in the “Reading Room” section of the Board's Web site, which is accessible via www.trade.gov/ftz.

For further information, contact Elizabeth Whiteman at Elizabeth.Whiteman@trade.gov or (202) 482-0473.

Dated: July 25, 2016.
Andrew McGilvray,
Executive Secretary.

[FR Doc. 2016-17892 Filed 7-27-16; 8:45 am]

BILLING CODE 3510-DS-P